DEPARTMENT OF THE INTERIOR

National Park Service

30 Day Notice of Intention To Request Clearance of Collection Information; Opportunity for Public Comment

AGENCY: National Park Service, Department of the Interior.

ACTION: Notice and request for comments.

SUMMARY: Under the provisions of the Paperwork Reduction Act of 1995 (Pub. L. 104-13, 44 U.S.C., chapter 3507) and 5 CFR Part 1320, Reporting and Record Keeping Requirements, the National Park Service (NPS) invites public comments on a revision of a currently approved information collection (OMB # 1024-0064).

DATES: Public comments on this proposed Information Collection Request (ICR) will be accepted October 18, 2006.

ADDRESSES: You may submit comments directly to the Desk Officer for the Department of the Interior, (OMB # 1024-0064), Office of Information and Regulatory Affairs, OMB, by fax at 202/395-6566, or by electronic mail at oira_docket@omb.eop.gov. The information collection may be viewed on-line at: http://www2.nature.nps.gov/geology/mining/9a_text/htm. and http://www2.nature.nps.gov/geology/oil_and_gas/9b_text/htm. For further information contact Edward O. Kassman, Jr., at 303-969-2146.

SUPPLEMENTARY INFORMATION: Title: NPS/Minerals Management Program/Mining Claims and Non-Federal Oil and Gas Rights.

OMB Number: 1024-0064.

Expiration Date of Approval: August 31, 2006.

Type of Request: Revision of a currently approved information collection.

Description of Need: The NPS regulates mineral development activities inside park boundaries on mining claims and on non-Federal oil and gas rights under regulations codified at 36 CFR Part 9, Subpart A (“9A regulations”), and 36 CFR Part 9, Subpart B (“9B Regulations”), respectively. The NPS promulgated both sets of regulations in the late 1970's. In the case of mining claims, the NPS promulgated the 9A regulations pursuant to congressional authority granted under the Mining in the Parks Act of 1976, 16 U.S.C. 1901 et seq., and individual park enabling statutes. For non-Federal oil and gas rights, the NPS regulates development activities pursuant to authority under the NPS Organic Act of 1916, 16 U.S.C. 1 et seq., and individual enabling statues. As directed by Congress, the NPS developed the regulations in order to protect park resources and visitor values from the adverse impacts associated with mineral development in park boundaries. NPS specifically requests comments on: (1) The need for information including whether the information has practical utility; (2) the accuracy of the reporting burden hour estimates; (3) ways to enhance the quality, utility, and clarity of the information to be collected; and (4) ways to minimize the burden of information collection on respondents, including the use of automated collection techniques or other forms of information technology.

It is the practice of the NPS to make all comments, including names and addresses of respondents who provide that information, available for public review following the conclusion of the NEPA process. Individuals may request that the NPS withhold their name and/or address from public disclosure. If you wish to do this, you must state this prominently at the beginning of your comments. Commentators using the Web site can make such a request by checking the box “keep my information private.” NPS will honor such requests to the extent allowable by law, but you should be aware that NPS may still be required to disclose your name and address pursuant to the Freedom of Information Act.

Description of Respondents: ¼ medium to large publicly owned companies and ¾ private entities.

Estimated Annual Reporting Burden: 4224 hours.

Estimated Average Burden Hours per Response: 176 Hours.

Estimated Average Number of Respondents: 24 annually.

Estimated Frequency of Response: 24 annually.

Dated: September 17, 2006.
Leonard E. Stowe,
NPS, Information and Collection Clearance Officer.

[FR Doc. 06-7717 Filed 9-15-06; 8:45 am]

BILLING CODE 4312-52-M